DEPARTMENT OF HEALTH AND HUMAN SERVICES

Notice To Announce Commission of a Surgeon General's Report on Substance Use, Addiction, and Health

AGENCY: Office of the Surgeon General (OSG) and Substance Abuse and Mental Health Services Administration (SAMHSA), Department of Health and Human Services (DHHS).

ACTION: Notice.

SUMMARY: On behalf of the United States Department of Health and Human Services, the Substance Abuse and Mental Health Services Administration and the Office of the Surgeon General announce the commission of the first-ever Surgeon General's Report presenting the state of the science on substance use, addiction, and health. The report will examine the health effects of drug and alcohol misuse from the perspectives of prevention, treatment, recovery, neurobiology, and delivery of care.

FOR FURTHER INFORMATION CONTACT: Jinhee Lee, Pharm.D., Public Health Advisor, SAMHSA/Center for Substance Abuse Treatment, 5600 Fishers Lane, Rockville, MD 20857, Email: sgrcomments@samhsa.hhs.gov.

SUPPLEMENTARY INFORMATION:

Scope of Problem: Substance use/misuse and addiction represent a significant and substantial public health challenge. Data from the 2014 National Survey on Drug Use and Health (NSDUH) reveal that an estimated 27.0 million Americans aged 12 or older were currently illicit drug users (defined as using any of the following in the past 30 days: Marijuana/hashish, cocaine/crack, heroin, hallucinogens, inhalants, or non-medical use of prescription-type psychotherapeutics such as pain relievers, tranquilizers, stimulants, and sedatives) and 16.3 million were heavy drinkers (defined as drinking five or more drinks on the same occasion on five or more days in the past 30 days). Approximately 6.5 million people aged 12 and older reported currently using psychotherapeutics non-medically.

According to the 2014 NSDUH, 21.5 million Americans aged 12 or older had a substance use disorder in the past year. Among them, 14.4 million Americans had dependence or abuse of alcohol but not illicit drugs, while another 4.5 million had dependence or abuse of illicit drugs but not alcohol, and 2.6 million had dependence or abuse of both alcohol and illicit drugs. People with alcohol or illicit drug dependence or abuse were defined in the 2014 NSDUH as meeting the diagnostic criteria specified in the Diagnostic and Statistical Manual of Mental Disorders, Fourth edition (DSM-IV).

The Affordable Care Act and new mental health parity protections are expanding mental health and substance abuse treatment benefits to 60 million Americans. Despite this historic expansion of health insurance coverage and other advances, too many Americans are not benefiting from treatment services. Based on the 2014 NSDUH data, although 21.5 million people aged 12 or older met the DSM-IV criteria for alcohol or illicit drug dependence or abuse, only an estimated 2.3 million received substance use treatment in the past year.

Drug poisoning (overdose) was responsible for about 47,000 deaths in the U.S. in 2014 (now the latest year for which national data are available). Furthermore, substance misuse (to include excessive alcohol use) and related disorders contribute to injury and chronic illness, lost productivity, family disruptions, and increased transmission of sexually and injection-related infectious diseases; are associated with higher rates of domestic violence and child abuse; and prevent many individuals from realizing their full potential.

Approach: The report's scope is intended to be broad and comprehensive, with the goal of capturing the current landscape of the impact of alcohol and drug issues on health, referencing data sources such as NSDUH, the Monitoring the Future Survey, the National Epidemiologic Survey on Alcohol and Related Conditions, and the National Comorbidity Survey. These sources highlight trends over time as well as underscore the critical nature of this public health issue. The report is intended to: (1) Provide a comprehensive review of the research literature on substance use, addiction, and health, summarizing the science on substance misuse prevention, treatment, and recovery; (2) outline potential future direction; and (3) educate, encourage, and call upon all Americans to take action.

Potential Areas of Focus: Areas of focus in the report may include the history of the prevention, treatment, and recovery fields; components of the substance use continuum (i.e., prevention, treatment, and recovery); epidemiology of substance use, misuse, and substance use disorders; etiology of substance misuse and related disorders; neurobiological base of substance misuse and related disorders; risk and protective factors; application of scientific research in the field, including methods, challenges, and current and future directions; social, economic, and health consequences of substance misuse; co-occurrence of substance use disorders and other diseases and disorders; the state of health care access and coverage as it relates to substance use prevention, treatment, and recovery; integration of substance use disorders, mental health, and physical health care in clinical settings; national, state, and local initiatives to assess and improve the quality of care for substance misuse and related disorders; organization and financing of prevention, treatment, and recovery services within the health care system; ethical, legal, and policy issues; and potential future directions.

Summer King,
Statistician.

[FR Doc. 2015-32929 Filed 12-30-15; 8:45 am]

BILLING CODE 4162-20-P